RAILROAD RETIREMENT BOARD

Sunshine Act Meetings

TIME AND DATE: 10:00 a.m., September 18, 2019.

PLACE: 8th Floor Board Conference Room, 844 North Rush Street, Chicago, Illinois, 60611.

STATUS: This meeting will be open to the public.

MATTERS TO BE CONSIDERED:

(1) Update from Wisconsin Central Working Group

(2) Discussion of Chief Medical Officer position

(3) Procedure for submitting items to the Board Docket

CONTACT PERSON FOR MORE INFORMATION: Stephanie Hillyard, Secretary to the Board, Phone No. 312-751-4920.

Authority: 5 U.S.C. 552b.

Dated: September 5, 2019.
Stephanie Hillyard,
Secretary to the Board.

[FR Doc. 2019-19578 Filed 9-9-19; 11:15 am]

BILLING CODE 7905-01-P